DEPARTMENT OF STATE

[Public Notice 7011]

Shipping Coordinating Committee; Notice of Committee Meeting

The Shipping Coordinating Committee (SHC) will conduct an open meeting at 9:30 a.m. on Friday, May 28, 2010, in Room 1303 of the United States Coast Guard Headquarters Building, 2100 Second Street, SW., Washington, DC 20593-0001. The primary purpose of the meeting is to prepare for the one hundred and fourth Session of the International Maritime Organization (IMO) Council to be held at the IMO headquarters in London, United Kingdom, from June 7-11, 2010.

The primary matters to be considered include:

—Report of the Secretary-General on credentials.

—Strategy and planning.

—Organizational reforms.

—Resource management:

—Voluntary IMO Member State Audit Scheme.

—Consideration of the report of the Marine Environment Protection Committee.

—Consideration of the report of the Maritime Safety Committee.

—Consideration of the report of the Technical Co-operation Committee.

—Technical Co-operation Fund: Report on activities of the 2008-2009 programme.

—Report on the 2010 International Conference on the revision of the HNS Convention.

—World Maritime University:

—IMO International Maritime Law Institute:

—Protection of vital shipping lanes.

—External relations:

—Report on the status of the Convention and membership of the Organization.

—Report on the status of conventions and other multilateral instruments in respect of which the Organization performs functions.

—Place and date of the next session of the Council.

Members of the public may attend this meeting up to the seating capacity of the room. To facilitate the building security process and to request reasonable accommodation, those who plan to attend should contact the meeting coordinator, LCDR Jason Smith, by e-mail at jason.e.smith2@uscg.mil, by phone at (202) 372-1376, by fax at (202) 372-1925, or in writing at Commandant (CG-52), U.S. Coast Guard, 2100 2nd Street, SW., Stop 7126, Washington, DC 20593-7126. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

This announcement might appear in the Federal Register less than 15 days prior to the meeting. The Department of State finds that there is an exceptional circumstance in that this advisory committee meeting must be held on May 28, in order to prepare for the IMO Council, convening in London on June 7.

Dated: May 11, 2010.
Jon Trent Warner,
Executive Secretary, Shipping Coordinating Committee, Department of State.

[FR Doc. 2010-11721 Filed 5-14-10; 8:45 am]

BILLING CODE 4710-09-P